UNITED STATES INSTITUTE OF PEACE

Announcement of the Priority Grant Competition; Effective Immediately

AGENCY: United States Institute of Peace.

ACTION: Notice.

SUMMARY: The Agency announces its ongoing Priority Grant Competition. The Priority Grant Competition focuses on seven countries as they relate to USIP's mandate. The Priority Grant Competition is restricted to projects that fit specific themes or topics identified for each country.

The seven Priority Grant Competition countries are outlined below. The specific themes and topics for each country may be found at our Web site at: http://www.usip.org/grants/priority_grantmaking.html.

• Afghanistan.

• Colombia.

• Iran.

• Iraq.

• Nigeria.

• Pakistan.

• Sudan.

Deadline: The Priority Grant Competition applications are accepted throughout the year and awards are announced throughout the year. Please visit our Web site at: http://www.usip.org/grants/priority_grantmaking.html for specific information on the competition as well as instructions about how to apply.

ADDRESSES: If you are unable to access our Web site, you may submit an inquiry to: United States Institute of Peace, Grant Program, Priority Grant Competition, 1200 17th Street, NW., Suite 200, Washington, DC 20036-3011; (202) 429-3842 (phone), (202) 833-1018 (fax), (202) 457-1719 (TTY), E-mail: grants@usip.org.

FOR FURTHER INFORMATION CONTACT: The Grant Program, Phone (202) 429-3842, E-mail: grants@usip.org.

Dated: June 8, 2009.
Michael Graham,
Vice President for Management.

[FR Doc. E9-13719 Filed 6-11-09; 8:45 am]

BILLING CODE 6820-AR-M